DEPARTMENT OF STATE

[Public Notice 5883]

Advisory Commission on Public Diplomacy; Notice of Meeting

The U.S. Advisory Commission on Public Diplomacy will hold a public meeting on September 12, 2007, in Room 150 at the National Academy of Sciences Building at 2100 C Street, NW., Washington, DC 20418. The meeting will be held from 9 a.m. to 12 noon. The Commissioners plan to discuss the human resources dimension of the State Department's public diplomacy programs and operations; and legislative branch-based public diplomacy programming.

The Advisory Commission was originally established under Section 604 of the United States Information and Exchange Act of 1948, as amended (22 U.S.C. 1469) and Section 8 of Reorganization Plan Numbered 2 of 1977. It was reauthorized pursuant to Public Law 110-21 (2007). The Commission is a bipartisan panel created by Congress in 1948 to assess public diplomacy policies and programs of the U.S. government and publicly funded nongovernmental organizations. The Commission reports its findings and recommendations to the President, the Congress and the Secretary of State and the American people. Current Commission members include Barbara M. Barrett of Arizona, who is the Chairman; Harold Pachios of Maine; Ambassador Penne Percy Korth of Washington, DC; Ambassador Elizabeth Bagley of Washington, DC; Jay T. Snyder of New York; and Maria Sophia Aguirre of Washington, DC.

Seating at this meeting is limited. To attend and for more information, please contact Carl Chan at (202) 203-7883. E-mail: chanck@state.gov.

Dated: August 13, 2007.
Carl Chan,
Acting Executive Director, Department of State.

[FR Doc. E7-16459 Filed 8-20-07; 8:45 am]

BILLING CODE 4710-11-P